DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Ryan White HIV/AIDS Treatment Modernization Act of 2006: Data Report Form: (OMB No. 0915-0253)—Extension

The Ryan White HIV/AIDS Program Annual Data Report (or the Ryan White Data Report, formerly called the CARE Act Data Report [CADR]) was initially created in 1999 by HRSA's HIV/AIDS Bureau. Grantees and their subcontracted service providers who are funded under Parts A, B, C, and D, and the Part F Minority AIDS Initiative of Title XXVI of the Public Health Service Act (the Ryan White HIV/AIDS Program), submit the report, which has been revised to more closely resemble the data requested in the client-level data collection instrument that these grantees and providers are now also required to submit. All parts of the Ryan White HIV/AIDS Program specify HRSA's responsibilities in the administration of grant funds, the allocation of funds, the evaluation of programs for the population served, and the improvement of the quantity and quality of care. Because client-level data reporting requirements are relatively new for the Ryan White HIV/AIDS Program grantees, the grantees are still required to report aggregate data in the Ryan White Data Report to HRSA annually. The more mature aggregate reporting requirements provide accurate records of the providers receiving Ryan White HIV/AIDS Program funding, the services provided, and the clients served, which continue to be critical to the implementation of the legislation and necessary for HRSA to fulfill its responsibilities. The Ryan White Data Report has seven different sections containing information about the service providers; demographic information about the clients served; information about the type of core and support services provided and the number of clients served; information about counseling and testing services; clinical information about clients who received outpatient/ambulatory medical care; demographic tables for Parts C and D; and information about health insurance services.

The primary purposes of the Ryan White Data Report are to: (1) Characterize the organizations where clients receive services; (2) provide information on the number and characteristics of clients who receive Ryan White HIV/AIDS Program services; and (3) enable HAB to describe the type and amount of services a client receives. In addition to meeting the goal of accountability to Congress, clients, advocacy groups, and the general public, information collected in the Ryan White Data Report is critical for HRSA, State and local grantees, and individual providers to assess the status of existing HIV-related service delivery systems.

The response burden for grantees is estimated as:

Program under which grantee is funded | Number of respondents | Responses per grantee | Hours per hours | Total response burden
Part A | 56 | 1 | 40 | 2,240
Part B | 59 | 1 | 40 | 2,360
Part C | 354 | 1 | 20 | 7,080
Part D | 98 | 1 | 20 | 1,960
Subtotal | 567 |  |  | 13,640

The response burden for service providers is estimated as:

Program under which provider is funded | Number of respondents | Responses per provider | Hours per hours | Total response burden
Part A Only | 685 | 1 | 26 | 17,810
Part B Only | 558 | 1 | 26 | 14,508
Part C Only | 95 | 1 | 44 | 4,180
Part D Only | 59 | 1 | 42 | 2,478
Funded under more than one program | 683 | 1 | 50 | 34,150
Subtotal | 2,080 |  |  | 73,126
Total for Both Grantees & Providers | 2,647 |  |  | 86,766

E-mail comments to paperwork@hrsa.gov or mail the HRSA Reports Clearance Officer, Room 10-33, Parklawn Building, 5600 Fishers Lane, Rockville, MD 20857. Written comments should be received within 60 days of this notice.

Dated: September 20, 2010.
Sahira Rafiullah,
Director, Division of Policy and Information Coordination.

[FR Doc. 2010-23929 Filed 9-23-10; 8:45 am]

BILLING CODE 4165-15-P